NATIONAL SCIENCE FOUNDATION

Proposal Review Panel for Materials Research; Notice of Meeting

In accordance with the Federal Advisory Committee Act (Pub L. 92-463 as amended), the National Science Foundation announces the following meeting:

Name: Proposal Review Panel for Materials Research (DMR) #1203.

Dates & Times: November 2, 2006; 7:45 a.m.-9:30 p.m. November 3, 2006; 8 a.m.-4 p.m.

Place: University of Minnesota, Minneapolis, MN.

Type of Meeting: Part—Open.

Contact Person: Dr. Maija M. Kukla, Program Director, Materials Research Science and Engineering Centers Program, Division of Materials Research, Room 1065, National Science Foundation, 4201 Wilson Boulevard, Arlington, VA 22230, Telephone (703) 292-4940.

Purpose of Meeting: To provide advice and recommendations concerning further support of the Materials Research Science and Engineering Center.

Agenda:

Thursday, November 2, 2006

7:45 a.m.-8:45 a.m. Closed—Briefing of Site Visit Panel and Continental Breakfast.

8:45 a.m.-12:15 p.m. Open—Welcome (institutional representatives, etc.).

12:15 p.m.-1:30 p.m. Closed—Lunch with students and postdocs.

1:30 p.m.-4:45 p.m. Open—Technical Presentation.

4:45 p.m.-5:45 p.m. Closed—Executive Session for Site Visit Team.

5:45 p.m.-7:30 p.m. Open—Site Visit Panel meets with MRSEC Director & Center Leaders.

7:30 p.m.-9:30 p.m. Closed—Dinner Meeting of Site Visit Panel.

Friday, November 3, 2006

8 a.m.-9 a.m. Closed—Executive session/Continental Breakfast/Director's Response to Feedback.

9 a.m.-11:15 a.m. Open—Industrial Outreach and Other Collaborations.

11:15 a.m.-3:30 p.m. Closed—Executive Session of Site Visit Panel.

3:30 p.m.-4 p.m. Open—Debriefing with MRSEC Director and Center Leaders.

Reason for Closing: The work being reviewed may include information of a proprietary or confidential nature, including technical information, financial data, such as salaries and personal information concerning individuals associated with the proposals. These matters are exempt under 5 U.S.C. 552b(c), (4) and (6) of the Government in the Sunshine Act.

Dated: October 12, 2006.
Susanne Bolton,
Committee Management Officer.

[FR Doc. 06-8721 Filed 10-16-06; 8:45 am]

BILLING CODE 7555-01-M